DEPARTMENT OF THE INTERIOR

Office of Natural Resources Revenue

[Docket No. ONRR-2011-0001; DS63610300 DR2PS0000.CH7000 134D0102R2]

Agency Information Collection Activities: Submitted for Office of Management and Budget Review; Comment Request

AGENCY: Office of the Secretary, Office of Natural Resources Revenue (ONRR).

ACTION: Notice of an extension of a currently approved information collection (OMB Control Number 1012-0010).

SUMMARY: To comply with the Paperwork Reduction Act of 1995 (PRA), the Office of Natural Resources Revenue (ONRR) is notifying the public that we have submitted to the Office of Management and Budget (OMB) an information collection request (ICR) to renew approval of the paperwork requirements in the regulations under title 30, Code of Federal Regulations (CFR), parts 1202, 1206, 1210, 1212, 1217, and 1218. This ICR pertains to royalty and production reporting on solid minerals and geothermal leases on Federal and Indian lands. There are three forms associated with this information collection: ONRR-4430, ONRR-4292, and ONRR-4293. This notice also provides the public with a second opportunity to comment on the paperwork burden of these regulatory requirements.

DATES: OMB has up to 60 days to approve or disapprove the information collection request but may respond after 30 days; therefore, you should submit your public comments to OMB by December 9, 2013 for the assurance of consideration.

ADDRESSES: Submit comments to the Office of Information and Regulatory Affairs, Office of Management and Budget, Attention: Desk Officer for the Department of Interior (1012-0010), by telefax at (202) 395-5806 or via email to OIRA_Submission@omb.eop.gov. Also, please send a copy of your comments to Armand Southall, Regulatory Specialist, Office of Natural Resources Revenue, P.O. Box 25165, MS 61030A, Denver, Colorado 80225. Please reference “ICR 1012-0010” in your comments.

FOR FURTHER INFORMATION CONTACT: Armand Southall, Regulatory Specialist, email Armand.Southall@onrr.gov. You may also contact Mr. Southall to obtain copies, at no cost, of (1) the ICR, (2) any associated forms, and (3) the regulations that require us to collect the information. To see a copy of the entire ICR submitted to OMB, go to http://www.reginfo.gov/public/PRAMain and select “Information Collection Review,” then select “Department of the Interior” in the drop-down box under “Currently Under Review.”

SUPPLEMENTARY INFORMATION:

Title: Solid Minerals and Geothermal Collections-30 CFR Parts 1202, 1206, 1210, 1212, 1217, and 1218.

OMB Control Number: 1012-0010.

Bureau Form Number: Forms ONRR-4430, ONRR-4292, and ONRR-4293.

Abstract: The Secretary of the United States Department of the Interior is responsible for mineral resource development on Federal and Indian lands and the Outer Continental Shelf (OCS). The Secretary's responsibility, according to various laws, is to (1) manage mineral resource production from Federal and Indian lands and the OCS, (2) collect the royalties and other mineral revenues due, and (3) distribute the funds collected under those laws. We have posted the laws pertaining to mineral leases on Federal and Indian lands and the OCS at http://www.onrr.gov/Laws_R_D/PublicLawsAMR.htm.

The Secretary also has a trust responsibility to manage Indian lands and to seek advice and information from Indian beneficiaries. ONRR performs the minerals revenue management functions for the Secretary and assists the Secretary in carrying out the Department's trust responsibility for Indian lands.

I. General Information

When a company or an individual enters into a lease to explore, develop, produce, and dispose of minerals from Federal or Indian lands, that company or individual agrees to pay the lessor a share in a value of production from the leased lands. The lessee, or designee, must report various kinds of information to the lessor relative to the disposition of the leased minerals. Such information is generally available within the records of the lessee or others involved in developing, transporting, processing, purchasing, or selling such minerals.

II. Information Collections

ONRR, acting for the Secretary, uses the information that we collect to ensure that lessees accurately value and appropriately pay all royalties based on the correct product valuation. ONRR and other Federal Government entities, including the Bureau of Safety and Environmental Enforcement, the Bureau of Land Management, the Bureau of Indian Affairs, and State and Tribal governmental entities, use the information for audit purposes and for evaluating the reasonableness of product valuation or allowance claims that lessees submit. Please refer to the burden hour chart for all reporting requirements and associated burden hours.

A. Solid Minerals

Producers of coal and other solid minerals from any Federal or Indian lease must submit current Form ONRR-4430, Solid Minerals Production and Royalty Report, and other associated data formats. These companies also report certain data on Form ONRR-2014, Report of Sales and Royalty Remittance (OMB Control Number 1012-0004). Producers of coal from any Indian lease must also submit Form ONRR-4292, Coal Washing Allowance Report, and Form ONRR-4293, Coal Transportation Allowance Report, if they wish to claim allowances on Form ONRR-4430. The information that ONRR requests is the minimum necessary to carry out our mission and places the least possible burden on respondents.

B. Geothermal Resources

This ICR also covers some of the information collections for geothermal resources, which ONRR groups by usage (electrical generation, direct use, and byproduct recover), and by disposition of the resources (arm's-length (unaffiliated) contract sales, non-arm's-length contract sales, and no contract sales) within each use group. ONRR relies primarily on data that payors report on Form ONRR-2014 for the majority of our business processes, including geothermal information. In addition to using the data to account for royalties that payors report, ONRR uses the data for monthly distribution of mineral revenues and for audit and compliance reviews.

III. OMB Approval

We will request OMB approval to continue to collect this information. Not collecting this information would limit the Secretary's ability to discharge fiduciary duties and may also result in the loss of royalty payments. We protect the proprietary information that ONRR receives and do not collect items of a sensitive nature. Reporters must submit Form ONRR-4430. Also, ONRR requires that reporters submit Forms ONRR-4292 and ONRR-4293 to claim allowances on Form ONRR-4430.

Frequency: Monthly, annually, and on occasion.

Estimated Number of Respondents: 100 reporters.

Estimated Annual Reporting and Recordkeeping “Hour” Burden: 3,434 hours.

We have not included in our estimates certain requirements that companies perform in the normal course of business, and that ONRR considers usual and customary. We display the estimated annual burden hours by CFR section and paragraph in the following chart.

Respondents' Estimated Annual Burden Hours
Citation 30 CFR | Reporting and recordkeeping requirement | Hour burden | Average number annual responses | Annual burden hours
Part 1202—Royalties
Subpart H—Geothermal Resources
1202.351(b)(3) | Pay royalties on used, sold, or otherwise finally disposed of byproducts | Hour burden covered under OMB Control Number 1012-0004.
1202.353(a), (b), (c), and (d) | Report on Form ONRR-2014, royalties or direct use fee due for geothermal resources, byproduct quantity, and commercially demineralized water quantity | Hour burden covered under OMB Control Number 1012-0004. See § 1210.52.
1202.353(e) | Maintain quality measurements for audits | AUDIT PROCESS (See Note).
Part 1206—Product Valuation
Subpart F—Federal Coal
1206.253(c); 1206.254; and 1206.257(d)(1) | Maintain accurate records for Federal lease coal and all data relevant to the royalty value determination; report the coal quantity information on appropriate forms under 30 CFR part 1210 | 0.4166 | 816 | 340
1206.257(b)(1), (b)(3), (b)(4), and (d)(2) | Demonstrate and certify your arm's-length contract provisions including all consideration paid by buyer, directly or indirectly, for coal production; provide written information of reported arm's-length coal sales value and quantity data | AUDIT PROCESS (See Note).
1206.257(d)(3) | Submit a one-time notification when first reporting royalties on Form ONRR-4430 and for a change in method | 2 | 3 | 6
1206.257(f) | Submit all available data relevant to the value determination proposal | 5 | 2 | 10
1206.257(i) | Write and sign contract revisions or amendments by all parties to an arm's-length contract, and retroactively apply revisions or amendments to royalty value for a period not to exceed two years | 2 | 3 | 6
1206.259(a)(1) and (a)(3) | Demonstrate that your contract is arm's-length; provide written information justifying the lessee's washing costs | AUDIT PROCESS (See Note).
1206.259(a)(1) | Report actual washing allowance on Form ONRR-4430 for arm's-length sales | 0.34 | 12 | 4
1206.259(b)(1) | Report actual washing allowance on Form ONRR-4430 for non-arm's-length or no contract sales | 0.75 | 48 | 36
1206.259(b)(2)(iv) | Report washing allowance on Form ONRR-4430 after lessee elects either method for a wash plant | 1 | 3 | 3
1206.259(b)(2)(iv)(A) | Report washing allowance on Form ONRR-4430 for depreciation—use either straight-line, or a unit of production method | 1 | 3 | 3
1206.259(c)(1)(ii) and (c)(2)(iii) | Submit arm's-length and non-arm's-length washing contracts and related documents to ONRR | AUDIT PROCESS (See Note).
1206.262(a)(1) | Report transportation allowance on Form ONRR-4430 | 0.333 | 240 | 80
1206.262(a)(1) and (a)(3) | Demonstrate that your contract is arm's-length; provide written information justifying your transportation costs when ONRR determines the costs are unreasonable | AUDIT PROCESS (See Note).
1206.262(b)(1) | Report actual transportation allowance on Form ONRR-4430 for non-arm's-length or no contract sales | 0.75 | 24 | 18
1206.262(b)(2)(iv) | Report transportation allowance on Form ONRR-4430 after lessee elects either method for a transportation system | 1 | 3 | 3
1206.262(b)(2)(iv)(A) | Report transportation allowance on Form ONRR-4430 for depreciation—use either straight-line, or a unit of production method | 1 | 3 | 3
1206.262(b)(3) | Apply to ONRR for exception from the requirement of computing actual costs | 1 | 3 | 3
1206.262(c)(1)(ii) and (c)(2)(iii) | Submit all arm's-length transportation contracts, production agreements, operating agreements, and related documents to ONRR | AUDIT PROCESS (See Note).
1206.264 | Propose the value of coal for royalty purposes to ONRR for an ad valorem Federal coal lease | 1 | 1 | 1
1206.265 | Notify ONRR if, prior to use, sale, or other disposition, you enhanced the value of coal | 1 | 1 | 1
Subpart H—Geothermal Resources
1206.352(b)(1)(ii) | Determine the royalty on produced geothermal resources, used in your power plant for generation and sale of electricity, for Class I leases, as approved by ONRR | Hour burden covered under OMB Control Number 1012-0004.
1206.353(c)(2)(i)(A), (d)(9), and (e)(4) | Include a return on capital you invested when the purchase of real estate for transmission facilities is necessary; allowable operating and maintenance expenses include other directly allocable and attributable operating and maintenance expenses that you can document | AUDIT PROCESS (See Note).
1206.353(g) | Request change to other depreciation alternative method with ONRR approval | 1 | 1 | 1
1206.353(h)(1) and (m)(2) | Use a straight-line depreciation method, but not below salvage value, for equipment Amend your prior estimated Form ONRR-2014 reports to reflect actual transmission cost deductions, and pay any additional royalties due plus interest | Hour burden covered under OMB Control Number 1012-0004.
1206.353(n) | Submit all arm's-length transmission contracts, production and operating agreements and related documents, and other data for calculating the deduction | AUDIT PROCESS (See Note).
1206.354(b)(1)(ii) | Redetermine your generating cost rate annually and request ONRR approval to use a different deduction period | 1 | 1 | 1
1206.354(c)(2)(i)(A), (d)(9), and (e)(4) | Include a return on capital you invested when the purchase of real estate for a power plant site is necessary; allowable operating and maintenance expenses include other directly allocable and attributable operating and maintenance expenses that you can document | AUDIT PROCESS (See Note).
1206.354(g) | Request change to other depreciation alternative method with ONRR approval | 1 | 1 | 1
1206.354(h) and (m)(2) | Use a straight-line depreciation method, but not below the salvage value, for equipment Amend your prior estimated Form ONRR-2014 reports to reflect actual generating cost deductions and pay any additional royalties due plus interest | Hour burden covered under OMB Control Number 1012-0004.
1206.354(n) | Submit all arm's-length power plant contracts, production and operating agreements and related documents, and other data for calculating the deduction | AUDIT PROCESS (See Note).
1206.356(a)(1) and (a)(2) | Determine the royalty on produced significant geothermal resource quantities, for Class I leases, with the weighted average of the arm's-length gross proceeds used to operate the same direct-use facility For Class I leases, the efficiency factor of the alternative energy source will be 0.7 for coal and 0.8 for oil, natural gas, and other fuels derived from oil and natural gas, or an efficiency factor proposed by the lessee and approved by ONRR | Hour burden covered under OMB Control Number 1012-0004.
1206.356(a)(3) | For Class I leases, a royalty determined by any other reasonable method approved by ONRR | 1 | 40 | 40
1206.356(b)(3) | Provide ONRR data showing the geothermal production amount, in pounds or gallons of geothermal fluid, to input into the fee schedule for Class III leases | Hour burden covered under OMB Control Number 1012-0004.
1206.356(c) | ONRR will determine fees on a case-by-case basis for geothermal resources other than hot water | 1 | 1 | 1
1206.357(b)(3); and 1206.358(d) | Determine the royalty due on byproducts by any other reasonable valuation method approved by ONRR Use a discrete field on Form ONRR-2014 to notify ONRR of a transportation allowance | Hour burden covered under OMB Control Number 1012-0004.
1206.358(d)(2) and (e); 1206.359(a)(1), (a)(2), (c)(2)(i)(A), (d)(9), and (e)(4) | Submit arm's-length transportation contracts for reviews and audits, if ONRR requires Pay any additional royalties due plus interest, if you have improperly determined a byproduct transportation allowance Provide written information justifying your transportation costs if ONRR requires you to determine the byproduct transportation allowance; include a return on capital if the purchase was necessary; allowable operating and maintenance expenses include any other directly allocable and attributable operating and maintenance expenses that you can document | AUDIT PROCESS (See Note).
1206.359(g) | The lessee may not later elect to change to the other alternative without ONRR approval to compute costs associated with capital investment | 1 | 1 | 1
1206.359(h)(1) and (l)(2) | You must use a straight-line depreciation method based on the life of either equipment, or geothermal project You must amend your prior Form ONRR-2014 reports to reflect actual byproduct transportation cost deductions and pay any additional royalties due plus interest | Hour burden covered under OMB Control Number 1012-0004.
1206.360(a)(1), (a)(2), and (b); 1206.361(a)(1) | Retain all data relevant to the royalty value, or fee you paid. Show how you calculated then submit all data to ONRR upon request ONRR may review and audit your data and will direct you to use a different measure, if royalty value, gross proceeds, or fee is inconsistent with subpart | AUDIT PROCESS (See Note).
1206.361(a)(2) | Pay either royalties or fees due plus interest if ONRR directs you to use a different royalty value, measure of gross proceeds, or fee | Hour burden covered under OMB Control Number 1012-0004.
1206.361(b), (c), and (d) | ONRR may require you to: increase the gross proceeds to reflect any additional consideration; use another valuation method; provide written information justifying your gross proceeds; demonstrate that your contract is arm's length; and certify that the provisions in your sales contract include all of the consideration the buyer paid you | AUDIT PROCESS (See Note).
1206.361(f)(2) | Write and sign contract revisions or amendments by all parties to the contract | AUDIT PROCESS (See Note).
1206.364(a)(1) | Request a value determination from ONRR in writing | 12 | 1 | 12
1206.364(c)(2) | Make any adjustments in royalty payments, if you owe additional royalties, and pay the royalties owed plus interest after the Assistant Secretary issues a determination | Hour burden covered under OMB Control Number 1012-0004.
1206.364(d)(2) | You may appeal an order requiring you to pay royalty under the determination | Hour burden covered under OMB Control Number 1012-0006.
1206.366 | State, tribal, or local government lessee must pay a nominal fee, if uses a geothermal resource | Hour burden covered under OMB Control Number 1012-0004.
Subpart J—Indian Coal
1206.456(b)(1), (b)(3), and (b)(4) | Demonstrate that your contract is arm's-length; provide written information justifying the reported coal value; and certify that your arm's-length contract provisions include all direct or indirect consideration paid by buyer for the coal production | AUDIT PROCESS (See Note).
1206.456(d)(1); 1206.452(c); 1206.453 | Retain all data relevant to the determination of royalty value to which individual Indian lease coal should be allocated; report coal quantity information on Form ONRR-4430, Solid Minerals Production and Royalty Report, as required under 30 CFR part 1210 | 0.42 | 48 | 20
1206.456(d)(2) | An Indian lessee will make available arm's-length sales and sales quantity data for like-quality coal sold, purchased, or otherwise obtained from the area when requested by an authorized ONRR or Indian representative, or the Inspector General of the Department of the Interior or other persons authorized to receive such information | AUDIT PROCESS (See Note).
1206.456(d)(3) | Notify ONRR by letter identifying the valuation method used and procedure followed; this is a one-time notification due no later than the month the lessee first report royalties on the Form ONRR-4430 | 1 | 1 | 1
1206.456(f) | Propose a value determination method to ONRR; submit all available data relevant to method; and use that method until ONRR decides | 1 | 1 | 1
1206.456(i) | Write and sign contract revisions or amendments by all parties to an arm's-length contract | 1 | 1 | 1
1206.458(a)(1), (b)(1), (c)(1)(i), (c)(1)(iii), (c)(2)(i), and (c)(2)(iii) | Deduct the reasonable actual coal washing allowance costs incurred under an arm's-length contract, and allowance based upon their reasonable actual costs under a non-arm's-length or no contract, after submitting a completed page one of Form ONRR-4292, Coal Washing Allowance Report, containing the actual costs for the previous reporting period, within three months after the end of the calendar year after the initial and for succeeding reporting periods, and report deduction on Form ONRR-4430 for an arm's-length, or a non-arm's-length, or no contract | 2 | 1 | 2
1206.458(a)(3) | Provide written information justifying your washing costs when ONRR determines your washing value unreasonable | AUDIT PROCESS (See Note).
1206.458(b)(2)(iv) | The lessee may not later elect to change to the other alternative without ONRR approval | 1 | 1 | 1
1206.458(b)(2)(iv)(A) | Elect either a straight-line depreciation method based on the life of equipment or reserves, or a unit of production method | 1 | 1 | 1
1206.458(c)(1)(iv) and (c)(2)(vi) | Submit arm's-length washing contracts and all related data used on Form ONRR-4292 | AUDIT PROCESS (See Note)
1206.461(a)(1), (b)(1), (c)(1)(i), (c)(1)(iii), (c)(2)(i), and (c)(2)(iii) | Submit a completed page one of Form ONRR-4293, Coal Transportation Allowance Report, of reasonable, actual transportation allowance costs incurred by the lessee for transporting the coal under an arm's-length contract, in which you may claim a transportation allowance retroactively for a period of not more than three months prior to the first day of the month that you filed the form with ONRR, unless ONRR approves a longer period upon a showing of good cause by the lessee; also submit a completed Form ONRR-4293 based upon the lessee's reasonable actual costs under a non-arm's-length or no contract (Emphasis added) | 2 | 1 | 2
1206.461(a)(3) | Provide written information justifying your transportation costs when ONRR determines your transportation value unreasonable | AUDIT PROCESS (See Note).
1206.461(b)(2)(iv) | Submit completed Form ONRR-4293 after a lessee has elected to use either method for a transportation system | 1 | 1 | 1
1206.461(b)(2)(iv)(A) | Submit completed Form ONRR-4293 to compute depreciation for election to use either a straight-line depreciation, or unit-of-production method | 1 | 1 | 1
1206.461(b)(3) | Submit completed Form ONRR-4293 for exception from the requirement of computing actual costs | 1 | 1 | 1
1206.461(c)(1)(iv) and (c)(2)(vi) | Submit arm's-length transportation contracts, production and operating agreements, and related documents used on Form ONRR-4293 | AUDIT PROCESS (See Note).
1206.463 | Propose the value of coal for royalty purposes to ONRR for an ad valorem Federal coal lease | 1 | 1 | 1
1206.464 | Notify ONRR if, prior to use, sale, or other disposition, you enhance the value of coal | 1 | 1 | 1
Part 1210—Forms and Reports
Subpart E—Solid Minerals, General
1210.201(a)(1); 1206.259(c)(1)(i), (c)(2), (e)(2); 1206.262(c)(1), (c)(2)(i), (e)(2); 1206.458(c)(4), (e)(2); 1206.461(c)(4), (e)(2) | Submit a completed Form ONRR-4430; report washing and transportation allowances as a separate line on Form ONRR-4430 for arm's-length, non-arm's-length, or no contract sales, unless ONRR approves a different reporting procedure; submit also a corrected Form ONRR-4430 to reflect actual costs, together with any payment, in accordance with instructions provided by ONRR | 0.75 | 1,668 | 1,251
1210.202(a)(1) and (c)(1) | Submit sales summaries via electronic mail where possible for all coal and other solid minerals produced from Federal and Indian leases and for any remote storage site | 0.50 | 900 | 450
1210.203(a) | Submit sales contracts, agreements, and contract amendments for sale of all coal and other solid minerals produced from Federal and Indian leases with ad valorem royalty terms | 1 | 30 | 30
1210.204(a)(1) | Submit facility data if you operate a wash plant, refining, ore concentration, or other processing facility for any coal, sodium, potassium, metals, or other solid minerals produced from Federal or Indian leases with ad valorem royalty terms | 0.5 | 130 | 65
1210.205(a) and (b) | Submit detailed statements, documents, or other evidence necessary to verify compliance, as requested | AUDIT PROCESS (See Note).
Subpart H—Geothermal Resources
1210.351 | Maintain geothermal records on microfilm, microfiche, or other recorded media | Hour burden covered under OMB Control Number 1012-0004.
1210.352 | Submit additional geothermal information on special forms or reports | 1 | 1 | 1
1210.353 | Submit completed Form ONRR-2014 monthly once sales or utilization of geothermal production occur | Hour burden covered under OMB Control Number 1012-0004.
Part 1212—Records and Forms Maintenance
Subpart E—Solid Minerals—General
1212.200(a) | Maintain all records pertaining to Federal and Indian solid minerals leases for six years after records are generated unless the record holder is notified, in writing | 0.25 | 4,064 | 1,016
Subpart H—Geothermal Resources
1212.351(a) and (b) | Retain accurate and complete records necessary to demonstrate that payments of royalties, rentals, and other amounts due under Federal geothermal leases are in compliance with laws, lease terms, regulations, and orders Maintain all records pertaining to Federal geothermal leases for six years after the records are generated unless the recordholder is notified in writing | Hour burden covered under OMB Control Numbers 1012-0004 (for Forms ONRR-2014 and ONRR-4054).
Part 1217—Audits and Inspections
Subpart E—Coal
1217.200 | Furnish, free of charge, duplicate copies of audit reports that express opinions on such compliance with Federal lease terms relating to Federal royalties as directed by the Director for the Office of Natural Resources Revenue | AUDIT PROCESS (See Note).
Subpart F—Other Solid Minerals
1217.250 | Furnish, free of charge, duplicate copies of annual or other audits of your books | AUDIT PROCESS (See Note).
Subpart G—Geothermal Resources
1217.300 | The Secretary, or his/her authorized representative, will initiate and conduct audits or reviews that relate to compliance with applicable regulations | AUDIT PROCESS (See Note).
PART 1218—COLLECTION OF MONIES AND PROVISION FOR GEOTHERMAL CREDITS AND INCENTIVES
Subpart E—Solid Minerals—General
1218.201(b); 1206.457(b); 1206.460(d) | You must tender all payments under § 1218.51 except for Form ONRR-4430 payments, include both your customer identification and your customer document identification numbers on your payment document, and you shall be liable for any additional royalties, plus interest, if improperly determined a washing or transportation allowance | 0.0055 | 1,368 | 8
1218.203(a) and (b) | Recoup an overpayment on Indian mineral leases through a recoupment on Form ONRR-4430 against the current month's royalties and submit the tribe's written permission to ONRR | 1 | 1 | 1
Subpart F—Geothermal Resources
1218.300; 1218.301; 1218.304; 1218.305(a) | Submit all rental and deferred bonus payments when due and pay in value all royalties due determined by ONRR. The payor shall tender all payments. Pay the direct use fees in addition to the annual rental due Pay advanced royalties, under 43 CFR 3212.15(a)(1) to retain your lease, that equal to the average monthly royalty you paid under 30 CFR part 1206, subpart H | Hour burden covered under OMB Control Number 1012-0004.
1218.306(a)(2) | You may receive a credit against royalties if ONRR approves in advance your contract | 4 | 1 | 4
1218.306(b) | Pay in money any royalty amount that is not offset by the credit allowed under this section | Hour burden covered under OMB Control Number 1012-0004.
TOTAL BURDEN |  |  | 9,434 | 3,434
Note: Audit Process—The Office of Regulatory Affairs determined that the audit process is exempt from the Paperwork Reduction Act of 1995 because ONRR staff asks non-standard questions to resolve exceptions.

Estimated Annual Reporting and Recordkeeping “Non-hour” Cost Burden: We have identified no “non-hour” cost burdens associated with the collection of information.

Public Disclosure Statement: The PRA (44 U.S.C. 3501 et seq.) provides that an agency may not conduct or sponsor—and a person does not have to respond to—a collection of information unless it displays a currently valid OMB control number.

Comments: Section 3506(c)(2)(A) of the PRA requires each agency to “* * * provide 60-day notice in the Federal Register * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information that ONRR collects; and (d) minimize the burden on the respondents, including the use of automated collection techniques or other forms of information technology.

To comply with the public consultation process, we published a notice in the Federal Register on February 11, 2013 (78 FR 9732), announcing that we would submit this ICR to OMB for approval. The notice provided the required 60-day comment period. We received no unsolicited comments in response to the notice.

If you wish to comment in response to this notice, you may send your comments to the offices listed under the ADDRESSES section of this notice. OMB has up to 60 days to approve or disapprove the information collection, but they may respond after 30 days. Therefore, in order to ensure maximum consideration, OMB should receive public comments by December 9, 2013.

Public Comment Policy: We will post all comments, including names and addresses of respondents, at http://www.regulations.gov. Before including your address, phone number, email address, or other personal identifying information in your comment, you should be aware that we may make your entire comment—including your personal identifying information—publicly available at any time. While you can ask us in your comment to withhold from public view your personal identifying information from public view, we cannot guarantee that we will be able to do so.

Information Collection Clearance Officer: Dave Alspach (202) 219-8526

Dated: September 27, 2013.
Gregory J. Gould,
Director, Office of Natural Resources Revenue.

[FR Doc. 2013-26638 Filed 11-7-13; 8:45 am]

BILLING CODE 4310-T2-P